DEPARTMENT OF THE INTERIOR

Bureau of Land Management

[WO-350-1430-PN]

Notice of Availability of Draft Programmatic Environmental Impact Statement (DPEIS) on Wind Energy Development on BLM-Administered Lands in the Western United States, Announcement of Public Review Period

AGENCY: Bureau of Land Management.

ACTION: Notice of availability of DPEIS, announcement of public review period.

SUMMARY: The Bureau of Land Management (BLM) announces the availability of the Draft Programmatic Environmental Impact Statement (DPEIS) on Wind Energy Development on BLM-Administered Lands in the Western United States. The BLM has prepared this DPEIS to (1) assess the environmental, social, and economic impacts associated with wind energy development on public lands in 11 western states (excluding Alaska) and (2) evaluate a number of alternatives to determine the best management approach to mitigating potential impacts and facilitating wind energy development.

DPEIS AVAILABILITY: The DPEIS will be available on the Internet in a searchable and downloadable format (http://www.windeis.anl.gov). The DPEIS also will be available for review during normal business hours at BLM State Offices located in Arizona, 222 N. Central Ave., Phoenix; California, 2800 Cottage Way, Suite W-1834, Sacramento; Colorado, 2850 Youngfield St., Lakewood; Idaho, 1387 S. Vinnell Way, Boise; Montana, 5001 Southgate Dr., Billings; Nevada, 1340 Financial Blvd., Reno; New Mexico, 1474 Rodeo Rd., Santa Fe; Oregon, 333 SW 1st Ave., Portland; Utah, 324 South State St., Salt Lake City; and Wyoming, 5353 Yellowstone Rd., Cheyenne.

In addition, the DPEIS will be available for review at Argonne National Laboratory, 1200 Internationale Parkway, Woodridge, IL 60517, Monday through Friday, 9 a.m. to 11:30 a.m., except holidays. To ensure easy access to the document at Argonne's offices, we ask that you contact the Document Retrieval Center at (630) 252-4587 prior to your visit. Visitors to Argonne will be escorted at all times and will be issued a temporary badge; specific arrangements must be made for visitors who are not U.S. citizens.

DATES: The public will have 90 days to review and comment on the DPEIS following publication of the required EPA Notice of Availability.

ADDRESSES: You may submit comments in writing by the following methods: Via an electronic comment form on the project Web site: http://www.windeis.anl.gov. By mail to: BLM Wind Energy Programmatic EIS, Argonne National Laboratory EAD/900, 9700 S. Cass Avenue, Argonne, IL 60439

Individual respondents may request confidentiality. If you wish BLM to withhold your name or street address, except for the city or town, from public view or from disclosure under the Freedom of Information Act, you must state this prominently at the beginning of your written comment. We will honor requests to the extent allowed by law. All submissions from organizations or businesses, and from individuals identifying themselves as representatives or officials of organizations or businesses, will be available for public inspection in their entirety.

FOR FURTHER INFORMATION CONTACT: For additional information, including information on how to comment, you may contact Lee Otteni, Bureau of Land Management, Farmington Field Office, 1235 La Plata Highway, Suite A, Farmington, NM 87401, (505) 599-8911 or visit the Wind Energy Development Programmatic EIS Web site at http://www.windeis.anl.gov.

SUPPLEMENTARY INFORMATION: Wind energy development on BLM-administered lands currently is managed in accordance with the terms and conditions of the Interim Wind Energy Development Policy (Instruction Memorandum 2003-020), issued October 16, 2002. To further support wind energy development on public lands and minimize potential environmental and sociocultural impacts, the BLM is seeking to build upon the existing interim policy to establish a Wind Energy Development Program. Three alternatives were considered in the DPEIS: (1) The proposed action, which would implement a Wind Energy Development Program, establish Best Management Practices for wind energy authorizations, and amend a number of BLM land use plans; (2) the no action alternative, which would allow wind energy development under the existing terms and conditions of the interim policy; and (3) a limited wind energy development alternative, which would allow wind energy development only in selected locations. The DPEIS was prepared in accordance with the Federal Land Policy and Management Act of 1976 (43 U.S.C. 1701), as amended; the National Environmental Policy Act of 1969 (NEPA) (42 U.S.C. 4321), as amended; and the Council on Environmental Quality (CEQ) regulations (40 CFR parts 1500-1508).

The BLM published a Notice of Intent to Prepare a Programmatic Environmental Impact Statement (EIS) to Evaluate Wind Energy Development on Western Public Lands Administered by the Bureau of Land Management, on October 17, 2003 (Federal Register, Vol. 68, No. 201). This initiated a 60-day public scoping period that ended on December 19, 2003. Public scoping meetings were conducted in five locations (Sacramento, Salt Lake City, Cheyenne, Las Vegas, and Boise) in November 2003. Written scoping comments were accepted by comment card, mail, fax, and the project Web site (http://www.windeis.anl.gov). The BLM published a scoping summary report and made copies of the individual letters, facsimiles, and electronic comments received during scoping available on the project Web site.

The BLM seeks information and comments on the analysis of potential impacts of wind energy development on public lands discussed in the DPEIS and on the assessment of the management alternatives, in terms of their effectiveness at mitigating potential impacts and facilitating wind energy development. In particular, the BLM seeks comments on the conclusion that the proposed action appears to provide the best approach for managing wind energy development on BLM-administered lands. The BLM also seeks additional data or information that would improve the analysis in the DPEIS.

Ray Brady,
Group Manager, Lands and Realty.

[FR Doc. 04-20520 Filed 9-9-04; 8:45 am]

BILLING CODE 4310-84-P